DEPARTMENT OF COMMERCE

National Oceanic and Atmospheric Administration

RIN 0648-XO40

Unified Synthesis Product Development Committee

AGENCY: National Oceanic and Atmospheric Administration (NOAA), Department of Commerce.

ACTION: Notice of open meeting.

SUMMARY: A major activity of the Climate Change Science Program (CCSP) is the production of a series of 21 Synthesis and Assessment Products (SAPs) that are designed to inform and aid decision making by policy makers, resource managers, stakeholders, the media, and the general public on issues related to global climate change. The Unified Synthesis Product (USP) Development Committee (USPDC), established by a Decision Memorandum on February 29, 2008, is the Federal Advisory Committee charged with responsibility to develop a draft USP that will synthesize the information contained in the 21 SAPs in the context of other recent climate and global change scientific studies and formal assessments. Please note that meeting location, times, and agenda topics described here are subject to change. Meeting information will be available online on the USPDC website:

http://www.climate.noaa.gov/index.jsp?pg=./ccsp/unified_synthesis.jsp

DATES: The meeting will convene at 8 a.m. on Thursday, April 16, 2009 and adjourn at 5:30 p.m. on that day. The location will be the US Climate Change Science Program Office, 1717 Pennsylvania Ave, NW, Washington, DC 20006.

FOR FURTHER INFORMATION CONTACT: Dr. Christopher D. Miller, USPDC DFO and the Program Manager, NOAA/OAR/Climate Program Office, Climate Change Data and Detection Program Element, 1315 East-West Highway, Room 12239, Silver Spring, Maryland 20910; telephone 301-734-1241, e-mail: Christopher.D.Miller@noaa.gov.

SUPPLEMENTARY INFORMATION:

Status

The meeting will be open to public participation and will include a 30-minute public comment period on April 16, 8 a.m. to 8:30 a.m. (check the USPDC website to confirm this time and the room in which the meeting will be held). Seats will be available to the public on a first-come, first-served basis. In general, each individual or group wishing to make a statement that addresses the agenda topics (see Matters To Be Considered) will be allotted a total time of five (5) minutes. Written comments (at least 35 copies) that address the agenda topics will also be accepted and should be received by the USPDC Designated Federal Official (DFO) by April 6, 2009 to provide sufficient time for review. Written comments received after April 6 will be distributed to the USPDC, but may not be reviewed prior to the meeting date.

Matters To Be Considered

The meeting will discuss a roll-out strategy for the USP and various aspects of outreach activities that will be employed to disseminate the information in the final report.

Dated: March, 23, 2009.
Captain Todd Stiles,
Executive Director, Office of the Deputy Under Secretary, National Oceanic and Atmospheric Administration

[FR Doc. E9-7201 Filed 3-31-09; 8:45 am]

BILLING CODE 3510-12-S